DEPARTMENT OF HOMELAND SECURITY

Federal Emergency Management Agency

[Docket ID FEMA-2018-0002; Internal Agency Docket No. FEMA-B-1866]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Connecticut: Fairfield | Town of Newtown (18-01-0540P) | The Honorable Dan Rosenthal, First Selectman, Town of Newtown Board of Selectmen, 3 Primrose Street, Newtown, CT 06470 | Town Hall, 3 Primrose Street, Newtown, CT 06470 | https://msc.fema.gov/portal/advanceSearch | Feb. 19, 2019 | 090011
Delaware: Kent | City of Dover (18-03-1850P) | The Honorable Robin R. Christiansen, Mayor, City of Dover, P.O. Box 475, Dover, DE 19903 | Department of Planning and Inspections, 15 Loockerman Plaza, Dover, DE 19901 | https://msc.fema.gov/portal/advanceSearch | Jan. 29, 2019 | 100006
Florida:
Collier | City of Marco Island (18-04-4433P) | The Honorable Jared Grifoni, Chairman, City of Marco Island Council, 50 Bald Eagle Drive, Marco Island, FL 34145 | Building Department, 50 Bald Eagle Drive, Marco Island, FL 34145 | https://msc.fema.gov/portal/advanceSearch | Feb. 1, 2019 | 120426
Miami-Dade | City of Miami (18-04-4671P) | The Honorable Francis Suarez, Mayor, City of Miami, 3500 Pan American Drive, Miami, FL 33133 | Building Department, 444 Southwest 2nd Avenue, 4th Floor, Miami, FL 33130 | https://msc.fema.gov/portal/advanceSearch | Feb. 13, 2019 | 120650
Monroe | City of Layton (18-04-5816P) | The Honorable Norman S. Anderson, Mayor, City of Layton, P.O. Box 778, Long Key, FL 33001 | Building Department, 68280 Overseas Highway, Long Key, FL 33001 | https://msc.fema.gov/portal/advanceSearch | Feb. 8, 2019 | 120169
Monroe | City of Layton (18-04-5890P) | The Honorable Norman S. Anderson, Mayor, City of Layton, P.O. Box 778, Long Key, FL 33001 | Building Department, 68280 Overseas Highway, Long Key, FL 33001 | https://msc.fema.gov/portal/advanceSearch | Feb. 14, 2019 | 120169
Monroe | Unincorporated areas of Monroe County (18-04-5923P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Feb. 19, 2019 | 125129
Monroe | Village of Islamorada (18-04-5780P) | The Honorable Chris Sante, Mayor, Village of Islamorada, 86800 Overseas Highway, Islamorada, FL 33036 | Planning and Development Department, 86800 Overseas Highway, Islamorada, FL 33036 | https://msc.fema.gov/portal/advanceSearch | Feb. 7, 2019 | 120424
Monroe | Village of Islamorada (18-04-6933P) | The Honorable Chris Sante, Mayor, Village of Islamorada, 86800 Overseas Highway, Islamorada, FL 33036 | Planning and Development Department, 86800 Overseas Highway, Islamorada, FL 33036 | https://msc.fema.gov/portal/advanceSearch | Feb. 19, 2019 | 120424
Orange | City of Orlando (18-04-3956P) | The Honorable Buddy W. Dyer, Mayor, City of Orlando, P.O. Box 4990, Orlando, FL 32802 | Public Works Department, Engineering Division, 400 South Orange Avenue, 8th Floor, Orlando, FL 32801 | https://msc.fema.gov/portal/advanceSearch | Feb. 1, 2019 | 120186
Osceola | City of St. Cloud (18-04-5710P) | Mr. Bill Sturgeon, Manager, City of St. Cloud, 1300 9th Street, St. Cloud, FL 34769 | Public Services Department, 1300 9th Street, St. Cloud, FL 34769 | https://msc.fema.gov/portal/advanceSearch | Feb. 7, 2019 | 120191
Pinellas | Town of Indian Shores (18-04-5445P) | The Honorable Patrick Soranno, Mayor, Town of Indian Shores, 19305 Gulf Boulevard, Indian Shores, FL 33785 | Building Department, 19305 Gulf Boulevard, Indian Shores, FL 33785 | https://msc.fema.gov/portal/advanceSearch | Feb. 11, 2019 | 125118
Polk | Unincorporated areas of Polk County (18-04-6600P) | The Honorable R. Todd Dantzler, Chairman, Polk County Board of Commissioners, 330 West Church Street, Bartow, FL 33831 | Polk County Floodplain Department, 330 West Church Street, Bartow, FL 33831 | https://msc.fema.gov/portal/advanceSearch | Feb. 14, 2019 | 120261
Louisiana:
Lafayette | Unincorporated areas of Lafayette Parish (18-06-3630P) | The Honorable Joel Robideaux, Mayor-President, Lafayette Consolidated Government, P.O. Box 4017-C, Lafayette, LA 70502 | Lafayette Parish, Department of Planning and Development, 220 West Willow Street, Building B, Lafayette, LA 70501 | https://msc.fema.gov/portal/advanceSearch | Feb. 1, 2019 | 220101
Morehouse | Unincorporated areas of Morehouse Parish (18-06-2764P) | The Honorable Terry Matthews, President, Morehouse Parish Police Jury, 125 East Madison Avenue, Bastrop, LA 71220 | Morehouse Parish Police Jury, 125 East Madison Avenue, Bastrop, LA 71220 | https://msc.fema.gov/portal/advanceSearch | Feb. 11, 2019 | 220367
Maine: York | City of Saco (18-01-0986P) | The Honorable Marston D. Lovell, Mayor, City of Saco, 300 Main Street, Saco, ME 04072 | City Hall, 300 Main Street, Saco, ME 04072 | https://msc.fema.gov/portal/advanceSearch | Feb. 4, 2019 | 230155
New Mexico:
Bernalillo | City of Albuquerque (18-06-1222P) | The Honorable Timothy M. Keller, Mayor, City of Albuquerque, P.O. Box 1293, Albuquerque, NM 87103 | Planning Department, 600 2nd Street Northwest, Albuquerque, NM 87102 | https://msc.fema.gov/portal/advanceSearch | Feb. 11, 2019 | 350002
Bernalillo | City of Albuquerque (18-06-1705P) | The Honorable Timothy M. Keller, Mayor, City of Albuquerque, P.O. Box 1293, Albuquerque, NM 87103 | Planning Department, 600 2nd Street Northwest, Albuquerque, NM 87102 | https://msc.fema.gov/portal/advanceSearch | Feb. 8, 2019 | 350002
North Carolina: Franklin | Unincorporated areas of Franklin County (18-04-5161P) | Ms. Angela L. Harris, Manager, Franklin County, 113 Market Street, Louisburg, NC 27549 | Franklin County Planning and Inspections Department, 215 East Nash Street, Louisburg, NC 27549 | https://msc.fema.gov/portal/advanceSearch | Feb. 1, 2019 | 370377
North Dakota: Stark | City of Dickinson (18-08-0776P) | The Honorable Scott Decker, Mayor, City of Dickinson, 99 2nd Street East, Dickinson, ND 58601 | City Hall, 99 2nd Street East, Dickinson, ND 58601 | https://msc.fema.gov/portal/advanceSearch | Feb. 20, 2019 | 380117
Oklahoma:
Pottawatomie | City of McLoud (17-06-1163P) | The Honorable Stan Jackson, Mayor, City of McLoud, P.O. Box 300, McLoud, OK 74851 | Pottawatomie County Commissioner's Office, 14101 Acme Road, Shawnee, OK 74801 | https://msc.fema.gov/portal/advanceSearch | Jan. 30, 2019 | 400398
Pottawatomie | Unincorporated areas of Pottawatomie County (17-06-1163P) | The Honorable John G. Canavan, Jr., Pottawatomie County Judge, 325 North Broadway Avenue, Shawnee, OK 74801 | Pottawatomie County Commissioner's Office, 14101 Acme Road, Shawnee, OK 74801 | https://msc.fema.gov/portal/advanceSearch | Jan. 30, 2019 | 400496
South Carolina: York | Unincorporated areas of York County (18-04-1779P) | The Honorable Britt Blackwell, Chairman, York County Council, P.O. Box 66, York, SC 29745 | York County Heckle Complex, 1070 Heckle Boulevard, Suite 107, York, SC 29732 | https://msc.fema.gov/portal/advanceSearch | Feb. 11, 2019 | 450193
Texas:
Bexar | Unincorporated areas of Bexar County (18-06-1356P) | The Honorable Nelson W. Wolff, Bexar County Judge, 101 West Nueva, 10th Floor, San Antonio, TX 78205 | Bexar County Department of Public Works, 233 North Pecos, Suite 420, San Antonio, TX 78207 | https://msc.fema.gov/portal/advanceSearch | Jan. 28, 2019 | 480035
Bexar | Unincorporated areas of Bexar County (18-06-1991P) | The Honorable Nelson W. Wolff, Bexar County Judge, 101 West Nueva, 10th Floor, San Antonio, TX 78205 | Bexar County Department of Public Works, 233 North Pecos, Suite 420, San Antonio, TX 78207 | https://msc.fema.gov/portal/advanceSearch | Jan. 28, 2019 | 480035
Denton | City of Justin (18-06-1570P) | The Honorable David Wilson, Mayor, City of Justin, P.O. Box 129, Justin, TX 76247 | Planning and Zoning Department, 415 North College Avenue, Justin, TX 76247 | https://msc.fema.gov/portal/advanceSearch | Feb. 7, 2019 | 480778
Denton | Unincorporated areas of Denton County (18-06-1570P) | The Honorable Mary Horn, Denton County Judge, 110 West Hickory Street, 2nd Floor, Denton, TX 76201 | Denton County Public Works, Engineering Department, 1505 East McKinney Street, Suite 175, Denton, TX 76209 | https://msc.fema.gov/portal/advanceSearch | Feb. 7, 2019 | 480774
Harris | City of Baytown (18-06-2955P) | The Honorable Stephen DonCarlos, Mayor, City of Baytown, P.O. Box 424, Baytown, TX 77522 | Engineering Department, 2123 Market Street, Baytown, TX 77522 | https://msc.fema.gov/portal/advanceSearch | Jan. 22, 2019 | 485456
Harris | Unincorporated areas of Harris County (18-06-0277P) | The Honorable Edward M. Emmett, Harris County Judge, 1001 Preston Street, Suite 911, Houston, TX 77002 | Harris County Permits Office, 10555 Northwest Freeway, Suite 120, Houston, TX 77092 | https://msc.fema.gov/portal/advanceSearch | Jan. 28, 2019 | 480287
Harris | Unincorporated areas of Harris County (18-06-2955P) | The Honorable Edward M. Emmett, Harris County Judge, 1001 Preston Street, Suite 911, Houston, TX 77002 | Harris County Permits Office, 10555 Northwest Freeway, Suite 120, Houston, TX 77092 | https://msc.fema.gov/portal/advanceSearch | Jan. 22, 2019 | 480287
Travis | City of Pflugerville (18-06-0800P) | The Honorable Victor Gonzales, Mayor, City of Pflugerville, P.O. Box 589, Pflugerville, TX 78691 | Development Services Center, 201-B East Pecan Street, Pflugerville, TX 78691 | https://msc.fema.gov/portal/advanceSearch | Feb. 11, 2019 | 481028
Travis | Unincorporated areas of Travis County (18-06-0800P) | The Honorable Sarah Eckhardt, Travis County Judge, P.O. Box 1748, Austin, TX 78767 | Travis County Transportation and Natural Resources Division, 700 Lavaca Street, Suite 540, Austin, TX 78701 | https://msc.fema.gov/portal/advanceSearch | Feb. 11, 2019 | 481026
Utah: Washington | City of St. George (18-08-0374P) | The Honorable Jonathan T. Pike, Mayor, City of St. George, 175 East 200 North St., George, UT 84770 | City Hall, 175 East 200 North St., George, UT 84770 | https://msc.fema.gov/portal/advanceSearch | Feb. 4, 2019 | 490177

[FR Doc. 2018-25545 Filed 11-21-18; 8:45 am]

BILLING CODE 9110-12-P